DEPARTMENT OF THE INTERIOR

Minerals Management Service

Outer Continental Shelf (OCS) Official Protraction Diagrams

AGENCY: Minerals Mangement Service, Interior.

ACTION: Status of OCS Official Protraction Diagram.

SUMMARY: Notice is hereby given that effective with this publication, the following NAD 83-based OCS Official Protraction Diagrams last revised on the date indicated are the latest documents available. These diagrams are on file and available for information only in the Gulf of Mexico OCS Regional Office, New Orleans, Louisiana. In accordance with Title 43, Code of Federal Regulations, these diagrams are the basic record for the description of mineral and oil and gas lease sales in the geographic areas they represent.

FOR FURTHER INFORMATION CONTACT: Copies of Leasing Maps and Official Protraction Diagrams are $2.00 each. These may be purchased from the Public Information Unit, Information Services Section, Gulf of Mexico OCS Region, Minerals Management Service, 1201 Elmwood Park Boulevard, New Orleans, Louisiana 70123-2394, Telephone (504) 736-2519 or (800) 200-GULF.

SUPPLEMENTARY INFORMATION: Leasing Maps and Official Protraction Diagrams may be obtained in two digital formats: .gra files for use in ARC/INFO and .pdf files for viewing and printing in Acrobat. Copies are also available for download at http://www.gomr.mms.gov/homepg/lsesale/mapdiag.html.

Description | Date
NF17-01 Tortugas Valley | 13-MAR-1997.
NF17-02 Rompidas Ledge | 13-MAR-1997.
NG17-02 Ft. Pierce | 13-MAR-1997.
NG17-03 Walker Cay | 13-MAR-1997.
NG17-05 West Palm Beach | 13-MAR-1997.
NG17-06 Bahamas | 13-MAR-1997.
NG17-08 Miami | 13-MAR-1997.
NG17-09 Bimini | 13-MAR-1997.
NG17-10 Dry Tortugas | 13-MAR-1997.
NG17-11 Key West | 13-MAR-1997.
NG17-12 Andros | 13-MAR-1997.
NH17-02 Brunswick | 01-MAR-1999.
NH17-03 Hoyt Hills | 23-AUG-1996.
NH17-05 Jacksonville | 13-MAR-1997.
NH17-06 Stetson Mesa | 23-AUG-1996.
NH17-08 Daytona Beach | 13-MAR-1997.
NH17-09 Adams | 23-AUG-1996.
NH17-11 Orlando | 13-MAR-1997.
NH17-12 Pillsbury | 13-MAR-1997.
NH18-01 Harrington Hill | 23-AUG-1996.
NH18-02 Taylor | 23-AUG-1996.
NH18-03 (Unnamed) | 23-AUG-1996.
NH18-04 Blake Spur | 23-AUG-1996.
NH18-05 (Unnamed) | 23-AUG-1996.
NH18-07 McAlinden Spur | 23-AUG-1996.
NH18-10 Blake Escarpment | 13-MAR-1997.
NI17-09 Georgetown | 05-JUL-1995.
NI17-11 Savannah | 05-JUL-1995.
NI17-12 James Island | 05-JUL-1995.
NI18-01 Rocky Mount | 13-MAR-1997.
NI18-02 Manteo | 13-MAR-1997.
NI18-03 Wraight | 23-AUG-1996.
NI18-04 Beaufort | 13-MAR-1997.
NI18-05 Russell | 13-MAR-1997.
NI18-06 Hatteras Ridge | 23-AUG-1996.
NI18-07 Cape Fear | 13-MAR-1997.
NI18-08 Marmer | 23-AUG-1996.
NI18-09 Lanier | 23-AUG-1996.
NI18-10 Richardson Hills | 23-AUG-1996.
NI18-11 Wittman | 23-AUG-1996.
NI18-12 Tibbet | 23-AUG-1996.
NI19-01 Lippold | 23-AUG-1996.
NI19-04 Evans | 23-AUG-1996.
NI19-07 (Unnamed) | 23-AUG-1996.
NJ18-02 Wilmington | 02-JUL-1996.
NJ18-03 Hudson Canyon | 23-AUG-1996.
NJ18-05 Salisbury | 02-JUL-1996.
NJ18-06 Wilmington Canyon | 23-AUG-1996.
NJ18-08 Chincoteague | 13-MAR-1997.
NJ18-09 Baltimore Rise | 23-AUG-1996.
NJ18-11 Currituck Sound | 13-MAR-1997.
NJ18-12 Hyman | 23-AUG-1996.
NJ19-01 Block Canyon | 23-AUG-1996.
NJ19-02 Veatch Canyon | 23-AUG-1996.
NJ19-03 Bear Seamount | 23-AUG-1996.
NJ19-04 Heezen Plateau | 23-AUG-1996.
NJ19-05 Powell | 23-AUG-1996.
NJ19-06 Muller | 23-AUG-1996.
NJ19-07 Jones | 23-AUG-1996.
NJ19-08 Uchupi | 23-AUG-1996.
NJ19-10 Wilmington Valley | 23-AUG-1996.
NJ20-01 Balanus Seamount | 23-AUG-1996.
NK18-09 Hartford | 02-JUL-1996.
NK18-11 Newark | 02-JUL-1996.
NK18-12 New York | 02-JUL-1996.
NK19-01 Portland | 13-MAR-1997.
NK19-02 Bath | 13-MAR-1997.
NK19-03 Jordan Basin | 13-MAR-1997.
NK19-04 Boston | 01-APR-1999.
NK19-05 Cashes Ledge | 01-APR-1999.
NK19-06 Browns Bank | 13-MAR-1997.
NK19-07 Providence | 13-MAR-1997.
NK19-08 Chatham | 13-MAR-1997.
NK19-09 Corsair Canyon | 13-MAR-1997.
NK19-10 Block Island Shelf | 13-MAR-1997.
NK19-11 Hydrographer Canyon | 23-AUG-1996.
NK19-12 Lydonia Canyon | 13-MAR-1997.
NK20-10 Stewart | 13-MAR-1997.
NL19-11 Bangor | 13-MAR-1997.
NL19-12 Eastport | 13-MAR-1997.

Dated: August 26, 2001.
Carolita U. Kallaur,
Associate Director for Offshore Minerals Management.

[FR Doc. 01-23345 Filed 9-18-01; 8:45 am]

BILLING CODE 4310-MR-P